DEPARTMENT OF COMMERCE

International Trade Administration

[C-570-027]

Certain Corrosion-Resistant Steel Products From the People's Republic of China: Final Results of the Expedited Five-Year Sunset Review of the Countervailing Duty Order

AGENCY: Enforcement and Compliance, International Trade Administration, Department of Commerce.

SUMMARY: As a result of this sunset review, the Department of Commerce (Commerce) finds that revoking the countervailing duty (CVD) order on certain corrosion-resistant steel products (CORE) from the People's Republic of China (China) would likely lead to continuation or recurrence of countervailable subsidies at the levels indicated in the “Final Results of the Sunset Review” section of this notice.

DATES: Applicable August 19, 2021.

FOR FURTHER INFORMATION CONTACT: Zachary Le Vene, AD/CVD Operations, Office VII, Enforcement and Compliance, International Trade Administration, U.S. Department of Commerce, 1401 Constitution Avenue NW, Washington, DC 20230; telephone: (202) 482-0056.

SUPPLEMENTARY INFORMATION:

Background

On July 25, 2016, Commerce published in the Federal Register the CVD order on CORE from China.¹ On June 1, 2021, Commerce published the notice of initiation of the first sunset review of the Order, pursuant to section 751(c) of the Tariff Act of 1930, as amended (the Act).² Commerce received notices of intent to participate from Cleveland-Cliffs Inc. (Cleveland-Cliffs) on June 14, 2021, and from United States Steel Corporation (U.S. Steel), California Steel Industries (CSI), Steel Dynamics Inc. (SDI), and Nucor Corporation (Nucor) on June 16, 2021 (collectively, domestic interested parties), within the deadline specified in 19 CFR 351.218(d)(l)(i).³ The domestic interested parties claimed interested party status under section 771(9)(C) of the Act, as domestic producers of CORE in the United States.

¹ See Certain Corrosion-Resistant Steel Products from India, Italy, Republic of Korea and the People's Republic of China: Countervailing Duty Order, 81 FR 48387 (July 25, 2016) (Order).

² See Initiation of Five-Year (Sunset) Reviews, 86 FR 29239 (June 1, 2021).

³ See Domestic Interested Parties' Letters, “Five-Year (`Sunset') Review of Countervailing Duty Order on Corrosion-Resistant Steel Products from China: Notice of Intent to Participate in Sunset Review,” dated June 14, 2021; and “Five-Year (`Sunset') Review of Antidumping and Countervailing Duty Orders on Corrosion-Resistant Steel Products from China: Notice of Intent to Participate”; “Notice of Intent to participate in the First Five-Year Review of the Countervailing Duty Order on Certain Corrosion-Resistant Steel Products from the People's Republic of China”; and “Certain Corrosion-Resistant Steel Products from the People's Republic of China: Notice of Intent to Participate in Sunset Review,” each dated June 16, 2021.

On July 1, 2021, Commerce received a substantive response from the domestic interested parties within the 30-day deadline specified in 19 CFR 351.218(d)(3)(i).⁴ We received no substantive response from any other domestic or interested parties in this proceeding and no hearing was requested.

⁴ See Domestic Interested Parties' Letter, “Corrosion-Resistant Steel Products from the People's Republic of China: Substantive Response of the Domestic Interested Parties to Commerce's Notice of Initiation of Five-Year (`Sunset') Reviews,” dated July 1, 2021.

On July 22, 2021, Commerce notified the U.S. International Trade Commission that it did not receive an adequate substantive response from respondent interested parties.⁵ As a result, pursuant to section 751(c)(3)(B) of the Act and 19 CFR 351.218(e)(1)(ii)(C)(2), Commerce conducted an expedited (120-day) sunset review of the Order.

⁵ See Commerce's Letter, “Sunset Reviews Initiated on June 1, 2021,” dated July 22, 2021.

Scope of the Order

The products covered by this Order are certain flat-rolled steel products, either clad, plated, or coated with corrosion-resistant metals such as zinc, aluminum, or zinc-, aluminum-,nickel-, or iron-based alloys, whether or not corrugated or painted, varnished, laminated, or coated with plastics or other non-metallic substances in addition to the metallic coating. The products subject to the Order are currently classified in the Harmonized Tariff Schedule of the United States (HTSUS) under subheadings: 7210.30.0030, 7210.30.0060, 7210.41.0000, 7210.49.0030, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, and 7212.60.0000.

The products subject to the Order may also enter under the following HTSUS subheadings: 7210.90.1000, 7215.90.1000, 7215.90.3000, 7215.90.5000, 7217.20.1500, 7217.30.1530, 7217.30.1560, 7217.90.1000, 7217.90.5030, 7217.90.5060, 7217.90.5090, 7225.91.0000, 7225.92.0000, 7225.99.0090, 7226.99.0110, 7226.99.0130, 7226.99.0180, 7228.60.6000, 7228.60.8000, and 7229.90.1000.

The HTSUS subheadings above are provided for convenience and customs purposes only. The written description of the scope of the Order is dispositive. For a complete description of the scope of the Order, see the accompanying Issues and Decision Memorandum.⁶

⁶ See Memorandum, “Issues and Decision Memorandum for the Expedited First Sunset Review of the Countervailing Duty Order on Certain Corrosion-Resistant Steel Products from the People's Republic of China,” dated concurrently with, and hereby adopted by, this notice (Issues and Decision Memorandum).

Analysis of Comments Received

All issues raised in this sunset review are addressed in the Issues and Decision Memorandum. A list of topics discussed in the Issues and Decisions Memorandum is included as an appendix to this notice. The Issues and Decision Memorandum is a public document and is on file electronically via the Enforcement and Compliance Antidumping and Countervailing Duty Centralized Electronic Service System (ACCESS). ACCESS is available to registered users at http://access.trade.gov. Additionally, a complete version of the Issues and Decisions Memorandum can be accessed directly as http://enforcement.trade.gov/frn.

Final Results of the Sunset Review

Pursuant to sections 751(c)(1) and 752(b) of the Act, Commerce determines that revocation of the Order would likely lead to the continuation or recurrence of countervailable subsidies at the following rates:

Producers/exporters | Net countervailable subsidy (percent)
Yieh Phui (China) Technomaterial Co., Ltd | 39.05
Angang Group Hong Kong Company Ltd | 241.07
Baoshan Iron & Steel Co., Ltd | 241.07
Duferco S.A.; Hebei Iron & Steel Group; and Tangshan Iron and Steel Group Co., Ltd | 241.07
Changshu Everbright Material Technology | 241.07
Handan Iron & Steel Group | 241.07
All-Others | 39.05

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing final results and this notice in accordance with sections 751(c), 752(b), and 777(i)(1) of the Act, and 19 CFR 351.218.

Dated: August 13, 2021.
Christian Marsh,
Acting Assistant Secretary for Enforcement and Compliance.

Appendix—List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely To Prevail

3. Nature of the Subsidies

VII. Final Results of Sunset Review

VIII. Recommendation

[FR Doc. 2021-17793 Filed 8-18-21; 8:45 am]

BILLING CODE 3510-DS-P